COMMITTEE FOR PURCHASE FROM PEOPLE WHO ARE BLIND OR SEVERELY DISABLED

Procurement List; Proposed Additions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities.

DATES: Comments must be received on or before: October 18, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add these services requirement to the Procurement List as a mandatory purchase only for contracting activities and locations listed, with the proposed qualified nonprofit agencies as the authorized source of supply. Prior to adding the service to the Procurement List, the Committee will consider other pertinent information, including information from Government personnel and relevant comments from interested parties regarding the Committee's intent to geographically limit this services requirement.

The following services(s) are proposed for addition to the Procurement List for delivery by the nonprofit agencies listed:

Service(s)

Service Type: Janitorial Services

Mandatory for: ATCT, FAA, Athens, GA

Authorized Source of Supply: Bobby Dodd Institute, Inc.

Contracting Activity: FEDERAL AVIATION ADMINISTRATION, 697DCK REGIONAL ACQUISITIONS SVCS

Service Type: Laundry and Linen Service

Mandatory for: Department of Veteran Affairs, VISN 7, Multiple Locations, GA, SC

Authorized Source of Supply: Wiregrass Rehabilitation Center, Inc.

Contracting Activity: DEPARTMENT OF VETERANS AFFAIRS, 247-NETWORK CONTRACT OFC 7(00247)

Michael R. Jurkowski,
Director, Business Operations.

[FR Doc. 2025-18064 Filed 9-17-25; 8:45 am]

BILLING CODE 6353-01-P